DEPARTMENT OF COMMERCE

International Trade Administration

[A-520-807]

Circular Welded Carbon-Quality Steel Pipe From the United Arab Emirates: Notice of Initiation and Preliminary Results of Antidumping Duty Changed Circumstances Review

AGENCY: Enforcement and Compliance, International Trade Administration, Department of Commerce.

SUMMARY: The U.S. Department of Commerce (Commerce) is initiating and issuing preliminary results of a changed circumstances review (CCR) of the antidumping duty (AD) order on circular welded carbon-quality steel pipe (CWP) from the United Arab Emirates (UAE) to determine whether Universal Tube and Pipe Industries FZE (Universal Tube and Pipe), is the successor-in-interest to Universal Tube and Plastic Industries Limited (UTP). Based on information on the record, we preliminarily determine that Universal Tube and Pipe is the successor-in-interest to UTP and should be assigned UTP's cash deposit rate for purposes of the AD order. Interested parties are invited to comment on these preliminary results.

DATES: Applicable July 29, 2024.

FOR FURTHER INFORMATION CONTACT: Genevieve Coen, AD/CVD Operations, Office II, Enforcement and Compliance, International Trade Administration, U.S. Department of Commerce, 1401 Constitution Avenue NW, Washington, DC 20230; telephone: (202) 482-3251.

SUPPLEMENTARY INFORMATION:

Background

On December 19, 2016, Commerce published in the Federal Register the AD order on CWP from the UAE.¹ On June 7, 2024, Universal Tube and Pipe requested that Commerce conduct an expedited CCR of the Order to determine that Universal Tube and Pipe is the successor-in-interest to UTP, and publish the preliminary results of the review simultaneously with the initiation of the CCR.² No interested parties filed comments concerning the CCR request. On July 22, 2024, Commerce tolled certain deadlines in this administrative proceeding by seven days.³ The deadline for the initiation is now July 29, 2024.

¹ See Circular Welded Carbon-Quality Steel Pipe from the Sultanate of Oman, Pakistan, and the United Arab Emirates: Amended Final Affirmative Antidumping Duty Determination and Antidumping Duty Orders, 81 FR 91906 (December 19, 2016) (Order).

² See Universal Tube and Pipe's Letter, “Request for Changed Circumstances Review and Successor-in-Interest Determination,” dated June 7, 2024 (CCR Request).

³ See Memorandum, “Tolling of Deadlines for Antidumping and Countervailing Duty Proceedings,” dated July 22, 2024.

Scope of the Order

The products covered by the Order are CWP from the UAE. For a complete description of the scope of the Order, see the appendix to this notice.

Initiation of CCR

Pursuant to section 751(b)(1) of the Tariff Act of 1930, as amended (the Act), and 19 CFR 351.216(d), Commerce will conduct a CCR of an order upon receipt of information concerning, or a request from an interested party for a review of, an order which shows changed circumstances sufficient to warrant a review of the order. In the past, Commerce has used CCRs to address the applicability of cash deposit rates after there have been changes in the name or structure of a respondent, such as a merger or spinoff (“successor-in-interest” or “successorship” determinations).⁴ Commerce finds that the information submitted by Universal Tube and Pipe demonstrates changed circumstances sufficient to warrant such a review. Therefore, in accordance with section 751(b)(1) of the Act and 19 CFR 351.216(d), Commerce is initiating a CCR based on the information contained in Universal Tube and Pipe's request that Commerce determine whether Universal Tube and Pipe is the successor-in-interest to UTP for purposes of the Order and AD liability.

⁴ See, e.g., Diamond Sawblades and Parts Thereof from the People's Republic of China: Initiation and Preliminary Results of Antidumping Duty Changed Circumstances Review, 82 FR 51605, 51606 (November 7, 2017) (Diamond Sawblades from China Preliminary), unchanged in Diamond Sawblades and Parts Thereof from the People's Republic of China: Final Results of Antidumping Duty Changed Circumstances Review, 82 FR 60177 (December 19, 2017) (Diamond Sawblades from China Final).

Preliminary Results of CCR

If we conclude that an expedited action is warranted, we may combine the notices of initiation and preliminary results of a CCR under 19 CFR 351.221(c)(3)(ii). Commerce has combined the notice of initiation and preliminary results in successor-in-interest cases when sufficient documentation has been provided supporting the request to make a preliminary determination.⁵ In this instance, we have the necessary information on the record to make a preliminary finding. Thus, we find that expedited action is warranted and have combined the notices of initiation and preliminary results pursuant to 19 CFR 351.221(c)(3)(ii).

⁵ See, e.g., Diamond Sawblades from Prelim Preliminary, unchanged in Diamond Sawblades from China Final; see also Certain Frozen Warmwater Shrimp from India: Initiation and Preliminary Results of Antidumping Duty Changed Circumstances Review, 83 FR 37784 (August 2, 2018), unchanged in Certain Frozen Warmwater Shrimp from India: Notice of Final Results of Antidumping Duty Changed Circumstances Review, 83 FR 49909 (October 3, 2018).

In making a successor-in-interest determination for purposes of AD liability, Commerce examines several factors including, but not limited to, changes in the following: (1) management and ownership; (2) production facilities; (3) supplier relationships; and (4) customer base.⁶ While no single factor or combination of these factors will necessarily provide a dispositive indication of a successor-in-interest relationship, Commerce will generally consider the new company to be the successor to the previous company if the new company's operations are not materially dissimilar to those of its predecessor.⁷ Thus, if the evidence demonstrates that, with respect to the production and sales of the subject merchandise, the new company operates as essentially the same business entity as the former company, Commerce will assign the new company the cash deposit rate of its predecessor.⁸

⁶ See, e.g., Initiation and Preliminary Results of Antidumping Duty Changed Circumstances Review: Multilayered Wood Flooring from the People's Republic of China, 79 FR 48117 (August 15, 2014), unchanged in Multilayered Wood Flooring from the People's Republic of China: Final Results of Changed Circumstances Review, 79 FR 58740 (September 30, 2014).

⁷ Id.

⁸ Id.; see also, e.g., Notice of Initiation and Preliminary Results of Antidumping Duty Changed Circumstances Review: Certain Frozen Warmwater Shrimp from India, 77 FR 64953 (October 24, 2012), unchanged in Final Results of Antidumping Duty Changed Circumstances Review: Certain Frozen Warmwater Shrimp from India, 77 FR 73619 (December 11, 2012).

In its CCR request, Universal Tube and Pipe provided: (1) a table demonstrating the continuity of ownership and management of managers before and after the takeover; (2) previously registered and newly transferred factory licenses from UTP to Universal Tube and Pipe; (3) a list of suppliers before and after the takeover; (4) a list of customers before and after the takeover; and (5) a corporate organizational structure chart before and after the takeover.⁹ The information submitted by Universal Tube and Pipe, discussed below, demonstrates that its request is based solely on a change in the name of the company from “Universal Tube and Plastic Industries Limited” to “Universal Tube and Pipe Industries FZE.”

⁹ Id.

1. Management and Ownership

There have been no material changes in management and ultimate ownership resulting from the name change. In its CCR Request, Universal Tube and Pipe includes two lists of officers and directors from before and after the name change showing that all existing officers and directors from UTP hold identical positions at Universal Tube and Pipe.¹⁰ Additionally, while UTP was a Bahamas-based company, and Universal Tube and Pipe is a UAE-based company, both the intermediate owner and ultimate individual shareholders of both companies are the same.¹¹

¹⁰ See CCR Request at 6-7 and Exhibit 2.

¹¹ Id. at 6-7 and Exhibit 7.

2. Products and Production Facilities

There have been no changes in production facilities between Universal Tube and Pipe and UTP.¹² The production facilities used to produce CWP at UTP are the same as those used to produce CWP at Universal Tube and Pipe.¹³

¹² Id. at 7.

¹³ Id. at Exhibit 3.

3. Supplier Relationships

Universal Tube and Pipe provided a list of suppliers related to the production of CWP following the name change and other supporting evidence to demonstrate that it maintained the same suppliers as UTP.¹⁴ The top suppliers of the main raw material inputs used in CWP production under UTP from January to February 2024 (i.e., before the name change), remained the same as the top suppliers of Universal Tube and Pipe in March 2024 (i.e., after the name change).¹⁵ Accordingly, Universal Tube and Pipe has demonstrated that supplier relationships have not markedly changed following the reorganization.

¹⁴ Id. at 8 and Exhibit 4.

¹⁵ Id. at Exhibit 4.

4. Customer Base

Universal Tube and Pipe states that there were no material changes in the customer base of UTP as a result of restructuring.¹⁶ Universal Tube and Pipe provided a list demonstrating that it maintained the same domestic and foreign customers before and after the name change.¹⁷

¹⁶ Id. at 8.

¹⁷ Id. at Exhibit 5.

Based on the foregoing, we preliminarily determine that Universal Tube and Pipe is the successor-in-interest to UTP and that Universal Tube and Pipe should receive the same AD cash deposit rate with respect to subject merchandise as its predecessor, UTP.

Should our final results remain unchanged from these preliminary results, we will instruct U.S. Customs and Border Protection to assign entries of subject merchandise exported by Universal Tube and Pipe the AD cash deposit rate applicable to UTP.

Public Comment

In accordance with 19 CFR 351.309(c)(1)(ii), interested parties may submit case briefs no later than 14 days after the date of publication of this notice.¹⁸ Rebuttal briefs, limited to issues raised in case briefs, may be filed not later than five days after the due date for case briefs, in accordance with 19 CFR 351.309(d).¹⁹ Interested parties who submit case or rebuttal briefs in this proceeding must submit: (1) a table of contents listing each issue; and (2) a table of authorities.²⁰ All briefs must be filed electronically using Enforcement and Compliance's Antidumping and Countervailing Duty Centralized Electronic Service System (ACCESS) and must also be served on interested parties. An electronically filed document must be received successfully in its entirety in ACCESS by 5:00 p.m. Eastern Time on the established deadline. Note that Commerce has amended certain of its requirements pertaining to the service of documents in 19 CFR 351.303(f).²¹

¹⁸ Commerce is exercising its discretion under 19 CFR 351.309(c)(1)(ii) to alter the time limit for the filing of case briefs.

¹⁹ See 19 CFR 351.309(d); see also Administrative Protective Order, Service, and Other Procedures in Antidumping and Countervailing Duty Proceedings, 88 FR 67069, 67077 (September 29, 2023) (APO and Final Service Rule).

²⁰ See 19 CFR 351.309(c)(2) and (d)(2).

²¹ See APO and Final Service Rule.

As provided under 19 CFR 351.309(c)(2) and (d)(2), in prior proceedings we have encouraged interested parties to provide an executive summary of their brief that should be limited to five pages total, including footnotes. In this CCR, we instead request that interested parties provide at the beginning of their briefs a public, executive summary for each issue raised in their briefs.²² Further, we request that interested parties limit their public executive summary of each issue to no more than 450 words, not including citations. We intend to use the public executive summaries as the basis of the comment summaries included in the issues and decision memorandum that will accompany the final determination in this CCR. We request that interested parties include footnotes for relevant citations in the public executive summary of each issue.

²² We use the term “issue” here to describe an argument that Commerce would normally address in a comment of the Issues and Decision Memorandum.

Pursuant to 19 CFR 351.310(c), interested parties who wish to request a hearing, limited to issues raised in the case and rebuttal briefs, must submit a written request to the Assistant Secretary for Enforcement and Compliance, U.S. Department of Commerce within 14 days after the date of publication of this notice.²³ Requests should contain the party's name, address, and telephone number, the number of participants, whether any participant is a foreign national, and a list of the issues to be discussed. If a request for a hearing is made, Commerce intends to hold the hearing at a time and date to be determined. Parties should confirm by telephone the date, time, and location of the hearing two days before the scheduled date.

²³ Commerce is exercising its discretion under 19 CFR 351.310(c) to alter the time limit for the filing a request for a hearing.

Final Results

Consistent with 19 CFR 351.216(e), we intend to issue the final results of this CCR no later than 270 days after the date on which this review was initiated, or within 45 days of publication of these preliminary results, if all parties agree to the preliminary findings, unless the deadline is extended.

Notification to Interested Parties

We are issuing and publishing this initiation and preliminary results notice in accordance with section 751(b)(1) and 777(i)(1) of the Act, and 19 CFR 351.216(b) and 351.221(c)(3).

Dated: July 23, 2024.
Ryan Majerus,
Deputy Assistant Secretary for Policy and Negotiations, performing the non-exclusive functions and duties of the Assistant Secretary for Enforcement and Compliance.

Appendix

The merchandise covered by this Order is welded carbon-quality steel pipes and tube, of circular cross-section, with an outside diameter (O.D.) not more than nominal 16 inches (406.4 mm), regardless of wall thickness, surface finish (e.g., black, galvanized, or painted), end finish (plain end, beveled end, grooved, threaded, or threaded and coupled), or industry specification (e.g., American Society for Testing and Materials International (ASTM), proprietary, or other), generally known as standard pipe, fence pipe and tube, sprinkler pipe, and structural pipe (although subject product may also be referred to as mechanical tubing). Specifically, the term “carbon quality” includes products in which:

(a) iron predominates, by weight, over each of the other contained elements;

(b) the carbon content is 2 percent or less, by weight; and

(c) none of the elements listed below exceeds the quantity, by weight, as indicated:

(i) 1.80 percent of manganese;

(ii) 2.25 percent of silicon;

(iii) 1.00 percent of copper;

(iv) 0.50 percent of aluminum;

(v) 1.25 percent of chromium;

(vi) 0.30 percent of cobalt;

(vii) 0.40 percent of lead;

(viii) 1.25 percent of nickel;

(ix) 0.30 percent of tungsten;

(x) 0.15 percent of molybdenum;

(xi) 0.10 percent of niobium;

(xii) 0.41 percent of titanium;

(xiii) 0.15 percent of vanadium; or

(xiv) 0.15 percent of zirconium.

Covered products are generally made to standard O.D. and wall thickness combinations. Pipe multi-stenciled to a standard and/or structural specification and to other specifications, such as American Petroleum Institute (API) API-5L specification, may also be covered by the scope of this order. In particular, such multi-stenciled merchandise is covered when it meets the physical description set forth above, and also has one or more of the following characteristics: is 32 feet in length or less; is less than 2.0 inches (50 mm) in outside diameter; has a galvanized and/or painted (e.g., polyester coated) surface finish; or has a threaded and/or coupled end finish.

Standard pipe is ordinarily made to ASTM specifications A53, A135, and A795, but can also be made to other specifications. Structural pipe is made primarily to ASTM specifications A252 and A500. Standard and structural pipe may also be produced to proprietary specifications rather than to industry specifications.

Sprinkler pipe is designed for sprinkler fire suppression systems and may be made to industry specifications such as ASTM A53 or to proprietary specifications.

Fence tubing is included in the scope regardless of certification to a specification listed in the exclusions below, and can also be made to the ASTM A513 specification. Products that meet the physical description set forth above but are made to the following nominal outside diameter and wall thickness combinations, which are recognized by the industry as typical for fence tubing, are included despite being certified to ASTM mechanical tubing specifications:

O.D. in inches (nominal) | Wall thickness in inches (nominal) | Gage
1.315 | 0.035 | 20
1.315 | 0.047 | 18
1.315 | 0.055 | 17
1.315 | 0.065 | 16
1.315 | 0.072 | 15
1.315 | 0.083 | 14
1.315 | 0.095 | 13
1.660 | 0.055 | 17
1.660 | 0.065 | 16
1.660 | 0.083 | 14
1.660 | 0.095 | 13
1.660 | 0.109 | 12
1.900 | 0.047 | 18
1.900 | 0.055 | 17
1.900 | 0.065 | 16
1.900 | 0.072 | 15
1.900 | 0.095 | 13
1.900 | 0.109 | 12
2.375 | 0.047 | 18
2.375 | 0.055 | 17
2.375 | 0.065 | 16
2.375 | 0.072 | 15
2.375 | 0.095 | 13
2.375 | 0.109 | 12
2.375 | 0.120 | 11
2.875 | 0.109 | 12
2.875 | 0.165 | 8
3.500 | 0.109 | 12
3.500 | 0.165 | 8
4.000 | 0.148 | 9
4.000 | 0.165 | 8
4.500 | 0.203 | 7

The scope of this Order does not include:

(a) pipe suitable for use in boilers, superheaters, heat exchangers, refining furnaces and feedwater heaters, whether or not cold drawn, which are defined by standards such as ASTM A178 or ASTM A192;

(b) finished electrical conduit, i.e., Electrical Rigid Steel Conduit (also known as Electrical Rigid Metal Conduit and Electrical Rigid Metal Steel Conduit), Finished Electrical Metallic Tubing, and Electrical Intermediate Metal Conduit, which are defined by specifications such as American National Standard (ANSI) C80.1-2005, ANSI C80.3-2005, or ANSI C80.6-2005, and Underwriters Laboratories Inc. (UL) UL-6, UL-797, or UL-1242;

(c) finished scaffolding, i.e., component parts of final, finished scaffolding that enter the United States unassembled as a “kit.” A kit is understood to mean a packaged combination of component parts that contains, at the time of importation, all of the necessary component parts to fully assemble final, finished scaffolding;

(d) tube and pipe hollows for redrawing;

(e) oil country tubular goods produced to API specifications;

(f) line pipe produced to only API specifications, such as API 5L, and not multi-stenciled; and

(g) mechanical tubing, whether or not cold-drawn, other than what is included in the above paragraphs.

The products subject to this Order are currently classifiable in Harmonized Tariff Schedule of the United States (HTSUS) statistical reporting numbers 7306.19.1010, 7306.19.1050, 7306.19.5110, 7306.19.5150, 7306.30.1000, 7306.30.5015, 7306.30.5020, 7306.30.5025, 7306.30.5032, 7306.30.5040, 7306.30.5055, 7306.30.5085, 7306.30.5090, 7306.50.1000, 7306.50.5030, 7306.50.5050, and 7306.50.5070. The HTSUS subheadings above are provided for convenience and U.S. Customs purposes only. The written description of the scope of the Order is dispositive.

[FR Doc. 2024-16637 Filed 7-26-24; 8:45 am]

BILLING CODE 3510-DS-P